DEPARTMENT OF COMMERCE

National Oceanic and Atmospheric Administration

[I.D. 070204C]

Endangered Species; Files No. 1472 and No. 1473

AGENCY: National Marine Fisheries Service (NMFS), National Oceanic and Atmospheric Administration (NOAA), Commerce.

ACTION: Issuance of permits.

SUMMARY: Notice is hereby given that Maritime Aquarium in Norwalk (Ellen Riker, Principal Investigator), 10 North Water Street, South Norwalk, Connecticut 06854 and the Virginia Living Museum (Lory Scott, principle investigator), 524 J. Clyde Morris Blvd., Newport News, Virginia 23601, have been issued permits to take shortnose sturgeon (Acipenser brevirostrum) for purposes of enhancement through educational display.

ADDRESSES: The permits and related documents are available for review upon written request or by appointment in the following office(s):

Permits, Conservation and Education Division, Office of Protected Resources, NMFS, 1315 East-West Highway, Room 13705, Silver Spring, MD 20910; phone (301)713-2289; fax (301)713-0376; and

Northeast Region, NMFS, One Blackburn Drive, Gloucester, MA 01930-2298; phone (978)281-9200; fax (978)281-9371.

FOR FURTHER INFORMATION CONTACT: Jennifer Jefferies or Amy Sloan, (301)713-2289.

SUPPLEMENTARY INFORMATION: On March 4, 2004, notice was published in the Federal Register (69 FR 10213) that requests for enhancement permits to take shortnose sturgeon had been submitted by the above-named organizations. The requested permits have been issued under the authority of the Endangered Species Act of 1973, as amended (ESA; 16 U.S.C. 1531 et seq.) and the regulations governing the taking, importing, and exporting of endangered and threatened species (50 CFR parts 222-226).

The Maritime Aquarium in Norwalk and the Virginia Living Museum are authorized to receive and use 50 individual, captive-bred, non-releaseable shortnose sturgeon for educational display exhibits. These projects of displaying endangered cultured shortnose sturgeon respond directly to a recommendation of the NMFS recovery outline for this species. In addition, the facilities will formulate public education programs and exhibits to increase awareness of the shortnose sturgeon and its status. These projects will educate the public on shortnose sturgeon life history and the reason for its declining numbers.

Issuance of these permits, as required by the ESA, was based on a finding that such permits (1) were applied for in good faith, (2) will not operate to the disadvantage of the endangered species which is the subject of the permits, and (3) are consistent with the purposes and policies set forth in section 2 of the ESA.

Dated: July 21, 2004.
Stephen L. Leathery,
Chief, Permits, Conservation and Education Division, Office of Protected Resources, National Marine Fisheries Service.

[FR Doc. 04-17068 Filed 7-26-04; 8:45 am]

BILLING CODE 3510-22-S